DEPARTMENT OF ENERGY

Federal Energy Regulatory Commission

Combined Notice of Filings #2

Take notice that the Commission received the following electric rate filings:

Docket Numbers: ER10-3117-001.

Applicants: Lea Power Partners, LLC.

Description: Lea Power Partners, LLC's Updated Market Power Analysis and Order No. 697 Compliance Filing.

Filed Date: 1/7/13.

Accession Number: 20130107-5140.

Comments Due: 5 p.m. ET 1/28/13.

Docket Numbers: ER12-72-002.

Applicants: Public Service Company of New Mexico.

Description: Public Service Company of New Mexico submits tariff filing per 35: PNM Filing of Former NITSA and NOA with Navopache to be effective 4/14/2012.

Filed Date: 1/7/13.

Accession Number: 20130107-5116.

Comments Due: 5 p.m. ET 1/28/13.

Docket Numbers: ER13-717-000.

Applicants: PJM Interconnection, L.L.C.

Description: Original Service Agreement No. 3476—Queue Position R11 to be effective 12/7/2012.

Filed Date: 1/7/13.

Accession Number: 20130107-5101.

Comments Due: 5 p.m. ET 1/28/13.

Docket Numbers: ER13-719-000.

Applicants: Southwest Power Pool, Inc.

Description: Southwest Power Pool, Inc. submits tariff filing per 35.13(a)(2)(iii: 2509 Eva Wind, LLC GIA to be effective 12/6/2012.

Filed Date: 1/7/13.

Accession Number: 20130107-5142.

Comments Due: 5 p.m. ET 1/28/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 7, 2013.
Nathaniel J. Davis, Sr.,
Deputy Secretary.

[FR Doc. 2013-00686 Filed 1-14-13; 8:45 am]

BILLING CODE 6717-01-P